FEDERAL MARITIME COMMISSION

[Petition No. P2-08]

Petition of APM Terminals Pacific Ltd., California United Terminals, Inc.; Eagle Marine Services, Ltd.; International Transportation Services, Inc.; Long Beach Container Terminal, Inc.; Seaside Transportation Service LLC; Total Terminals LLC; West Basin Container Terminal LLC; Pacific Maritime Services, LLC; SSA Terminal (Long Beach), LLC Trans Pacific Container Service Corporation; Yusen Terminals, Inc.; and SSA Terminals, LLC, (“Marine Terminal Operators”); and Portcheck LLC; Notice of Filing and Request for Comments

This is to provide notice of filing and to invite comments on or before December 15, 2008, with regard to the Petition described below.

The marine terminal operators as listed above and PortCheck LLC, parties to FMC Agreement No. 201199, the Port Fee Services Agreement (“Petitioners”) have petitioned the Commission pursuant to 46 CFR 502.69 of the Commission's Rules of Practice and Procedure, for a review of a staff action taken concerning the effective date of Petitioners' agreement filed on November 3, 2008. In particular, Commission staff found that the agreement was not eligible for an exemption from the statutory 45-day agreement waiting period under Section 40304(c) of the Shipping Act of 1984 (“Shipping Act”), and the Commission's Rules at 46 CFR 535.308(a).

Certain interested parties have already submitted comments on this Petition. One letter, submitted by counsel on behalf of licensed motor carriers Swift Transportation Company and Knight Transportation, Inc., indicate that they have been “informed by the Ports” of the Commission staff action thereon. Accordingly, it appears that there may be broad public interest.

In order for the Commission to make a thorough evaluation of the Petition, interested persons are requested to submit views or arguments in reply to the Petition no later than December 15, 2008. Replies shall consist of an original and 15 copies, be directed to the Secretary, Federal Maritime Commission, 800 North Capitol Street, NW., Washington, DC 20573-0001, and be served on Petitioner's counsel, David F. Smith and Wayne R. Rohde, Sher and Blackwell LLP, Suite 900, 1850 M Street, NW., Washington, DC 20036. A copy of the reply shall be submitted in electronic form (Microsoft Word) by e-mail to Secretary@fmc.gov.

The Petition will be posted on the Commission's Web site at http://www.fmc.gov/reading/Petitions.asp. Replies filed in response to this petition also will be posted on the Commission's Web site at this location.

Parties participating in this proceeding may elect to receive service of the Commission's issuances in this proceeding through e-mail in lieu of service by U.S. mail. A party opting for electronic service shall advise the Office of the Secretary in writing and provide an e-mail address where service can be made.

Karen V. Gregory,
Secretary.

[FR Doc. E8-28637 Filed 12-2-08; 8:45 am]

BILLING CODE 6730-01-P